DEPARTMENT OF HEALTH AND HUMAN SERVICES

Centers for Medicare & Medicaid Services

[Document Identifier: CMS-10284, CMS-2567 and CMS-10283]

Agency Information Collection Activities: Submission for OMB Review; Comment Request

AGENCY: Centers for Medicare & Medicaid Services, Department of Health and Human Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New Collection; Title of Information Collection: Children's Health Insurance Program Reauthorization Act (CHIPRA) of 2009, State Option Pre-print to Include Pregnant Women in Title XXI; Use: Section 111 of CHIPRA adds a new section 2112 to the Social Security Act which gives States the option of providing necessary prenatal, delivery and postpartum care to low-income uninsured pregnant women through an amendment to its State Child Health Plan (CHIP plan). The purpose of this draft State plan amendment template is to provide States with the format needed to enable a State to amend their CHIP plan to reflect the coverage of pregnant women. Form Number: CMS-10284 (OMB#: 0938-NEW); Frequency: Reporting—One-time and Occasionally; Affected Public: State, Local or Tribal Government; Number of Respondents: 40; Total Annual Responses: 40; Total Annual Hours: 3,200. (For policy questions regarding this collection contact Meredith Robertson at 410-786-6543. For all other issues call 410-786-1326.)

2. Type of Information Collection Request: Reinstatement without change of a previously approved collection; Title of Information Collection: Statement of Deficiencies and Plan of Correction; Use: The information from the CMS-2567 is used by the States and CMS regional offices to document and certify compliance. Form Number: CMS-2567 (OMB#: 0938-0391); Frequency: Reporting—Annually; Affected Public: State, Local or Tribal Government, Federal Government, Business or other for-profits and Not-for-profit Institutions; Number of Respondents: 60,000; Total Annual Responses: 60,000; Total Annual Hours: 120,000. (For policy questions regarding this collection contact Joanne Perry at 410-786-3336. For all other issues call 410-786-1326.)

3. Type of Information Collection Request: New Collection; Title of Information Collection: State Plan Amendment Template for Transitional Medical Assistance for Low-Income Families; Use: Section 5004 of the American Recovery and Reinvestment Act of 2009, Public Law 111-5, amends section 1925 of the Social Security Act effective July 1, 2009 to offer States two new options for eligibility requirements under Transitional Medical Assistance. To select either or both of these options a State Medicaid Agency will complete the template page and submit it for approval as part of a State plan amendment. The law also imposes new reporting requirements for States which are mentioned on the template. Form Number: CMS-10283 (OMB#: 0938-NEW); Frequency: Reporting—One-time and Occasionally; Affected Public: State, Local or Tribal Government; Number of Respondents: 51; Total Annual Responses: 51; Total Annual Hours: 51. (For policy questions regarding this collection contact Mary Corddry at 410-786-6618. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on August 17, 2009: OMB, Office of Information and Regulatory Affairs Attention: CMS Desk Officer, Fax Number: (202) 395-6974.

E-mail: OIRA_submission@omb.eop.gov.

Dated: July 9, 2009.
Michelle Shortt,
Director, Regulations Development Group, Office of Strategic Operations and Regulatory Affairs.

[FR Doc. E9-17080 Filed 7-16-09; 8:45 am]

BILLING CODE 4120-01-P